CONSUMER PRODUCT SAFETY COMMISSION

Proposed Extension of Approval of Information Collection; Comment Request—Children's Sleepwear

AGENCY: Consumer Product Safety Commission.

ACTION: Notice; correction.

SUMMARY: As required by the Paperwork Reduction Act of 1995 (44 U.S.C. Chapter 35), the Consumer Product Safety Commission (CPSC) requested comments on a proposed extension of approval, for a period of 3 years from the date of approval by the Office of Management and Budget (OMB), of a collection of information from manufacturers and importers of children's sleepwear. This collection of information is in the Standard for the Flammability of Children's Sleepwear: Sizes 0 through 6X and the Standard for the Flammability of Children's Sleepwear: Sizes 7 through 14 and regulations implementing those standards. See 16 CFR parts 1615 and 1616. The children's sleepwear standards and implementing regulations establish requirements for testing and recordkeeping by manufacturers and importers of children's sleepwear.

This document was published in the Federal Register of October 4, 2012, and contains an incorrect docket number.

FOR FURTHER INFORMATION CONTACT: Robert H. Squibb, Consumer Product Safety Commission, 4330 East West Highway, Bethesda, MD 20814; (301) 504-7815, or by email to: rsquibb@cpsc.gov.

Correction

(1) In the Federal Register of October 4, 2012, 77 FR 60684, in the second column, correct the docket number in the heading to read: [Docket No. CPSC-2012-0055];

(2) In the Federal Register of October 4, 2012, 77 FR 60684, in the second column, Correct the first sentence of the ADDRESSES section to read: “You may submit comments, identified by Docket No. CPSC-2012-0055, by any of the following methods:”

Dated: October 12, 2012.
Todd A. Stevenson,
Secretary, Consumer Product Safety Commission.

[FR Doc. 2012-25519 Filed 10-16-12; 8:45 am]

BILLING CODE 6355-01-P